FEDERAL COMMUNICATIONS COMMISSION

Notice of Public Information Collection(s) Being Reviewed by the Federal Communications Commission, Comments Requested

March 21, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 28, 2002. If you anticipate that you will be submitting comments, but find it difficult to do so within the period of time allowed by this notice, you should advise the contact listed below as soon as possible.

ADDRESSES: Direct all comments to Judy Boley Herman or Leslie Smith, Federal Communications Commission, Room 1-C804 or Room 1-A804, 445 12th Street, SW., Washington, DC 20554 or via the Internet to jbherman@fcc.gov or lesmith@fcc.gov.

FOR FURTHER INFORMATION CONTACT: For additional information or copies of the information collection(s), contact Judy Boley Herman at 202-418-0214 or via the Internet at jbherman@fcc.gov.

SUPPLEMENTARY INFORMATION:

OMB Control No.: 3060-0174.

Title: Section 73.1212, Sponsorship identification; list retention; related requirements.

Form No.: N/A.

Type of Review: Extension of a currently approved collection.

Respondents: Individuals or households, business or other for-profit, state, and not-for-profit institutions.

Number of Respondents: 15,122.

Estimated Time Per Response: Recordkeeping requirement—0.1 hours/broadcast; sponsorship identification—4 seconds/broadcast.

Frequency of Response: Recordkeeping requirement; and third party disclosure requirement.

Total Annual Burden: 91,231 hours.

Total Annual Cost: N/A.

Needs and Uses: Section 73.1212 requires a broadcast station to identify the sponsor of any matter for which consideration is provided. For matter advertising commercial products or services, generally the mention of the name of the product or service constitutes sponsorship identification. In the case of television political advertisements concerning candidates for pubic office, the sponsor shall be identified with letters equal to or greater than four percent of the vertical height of the television screen. In addition, when an entity rather than an individual sponsors the broadcast of matter that is of a political or controversial nature, the licensee is required to retain a list of the executive officers, or board of directors, or executive committee, etc., of the organization paying for such matter. Sponsorship announcements are waived with respect to broadcast of “want ads” sponsored by an individual but the licensee shall maintain a list showing the name, address and telephone number of each such advertiser. These lists shall be made available for public inspection. The data is used by the public so that they may know by whom they are being persuaded.

OMB Control No.: 3060-XXXX.

Title: Data Quality Comment Form.

Form No.: FCC Form 115.

Type of Review: New collection.

Respondents: Individuals or households, business or other for-profit, not-for profit institutions, and state, local or tribal government.

Number of Respondents: 25.

Estimated Time Per Response: 1 hour.

Frequency of Response: On occasion reporting requirement.

Total Annual Burden: 25 hours.

Total Annual Cost: N/A.

Needs and Uses: FCC Form 115 is required by Section 515 of the Treasury and General Government Appropriations Act for Fiscal Year 2001 (Public Law 105-554). Section 515 directs federal agencies to implement guidelines that include administrative mechanisms allowing affected persons to seek and obtain correction of information maintained and disseminated by the agency that does not comply with OMB guidelines. The Commission has developed FCC Form 115 to obtain the necessary data from the public and to use it as a tracking mechanism for these types of comments.

Federal Communications Commission.
William F. Caton,
Acting Secretary.

[FR Doc. 02-7405 Filed 3-27-02; 8:45 am]

BILLING CODE 6712-01-P